DEPARTMENT OF TRANSPORTATION

Federal Aviation Administration

14 CFR Part 39

[Docket No. FAA-2008-0643; Directorate Identifier 2008-NM-094-AD]

RIN 2120-AA64

Airworthiness Directives; Bombardier Model CL-600-2B19 (Regional Jet Series 100 and 440) Airplanes

AGENCY: Federal Aviation Administration (FAA), DOT.

ACTION: Notice of proposed rulemaking (NPRM).

SUMMARY: We propose to adopt a new airworthiness directive (AD) for the products listed above that would supersede an existing AD. This proposed AD results from mandatory continuing airworthiness information (MCAI) originated by an aviation authority of another country to identify and correct an unsafe condition on an aviation product. The MCAI describes the unsafe condition as:

Bombardier Aerospace has completed a system safety review of the aircraft fuel system against fuel tank safety standards * * *.

[A]ssessment showed that supplemental maintenance tasks [for certain bonding jumpers, wiring harnesses, and hydraulic systems, among other items] are required to prevent potential ignition sources inside the fuel system, which could result in a fuel tank explosion. * * *

The proposed AD would require actions that are intended to address the unsafe condition described in the MCAI.

DATES: We must receive comments on this proposed AD by July 21, 2008.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Rocco Viselli, Aerospace Engineer, Airframe and Propulsion Branch, ANE-171, FAA, New York Aircraft Certification Office, 1600 Stewart Avenue, Suite 410, Westbury, New York 11590; telephone (516) 228-7331; fax (516) 794-5531.

SUPPLEMENTARY INFORMATION:

Comments Invited

We invite you to send any written relevant data, views, or arguments about this proposed AD. Send your comments to an address listed under the ADDRESSES section. Include “Docket No. FAA-2008-0643; Directorate Identifier 2008-NM-094-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On February 28, 2008, we issued AD 2008-06-02, Amendment 39-15414 (73 FR 13100, March 12, 2008). That AD required actions intended to address an unsafe condition on the products listed above.

Since we issued AD 2008-06-02, we have determined that, for certain airplanes, the initial compliance times for doing the tasks specified in paragraph (f)(1) of that AD must be reduced. AD 2008-06-02 resulted from Canadian Airworthiness Directive CF-2007-29, dated November 22, 2007 (referred to after this as “the MCAI”).

The MCAI does not provide an initial compliance time for doing the tasks for certain airplanes. In AD 2008-06-02, for those airplanes, we required an initial compliance time that started from the effective date of the AD, or the date of issuance of the original Canadian standard airworthiness certificate or the date of issuance of the original Canadian export certificate of airworthiness, whichever occurs later. Although the initial compliance time for doing the tasks is unstated in the MCAI, we have determined that the intent of the MCAI is for the initial compliance time to start from the initial delivery date of the airplane in order to address the identified unsafe condition in a timely manner.

This proposed AD would require reduced thresholds for the initial compliance times for the airplanes and tasks that are not identified in paragraphs (f)(2), (f)(3), and (f)(4) of AD 2008-06-02. You may obtain further information by examining the MCAI in the AD docket.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 689 products of U.S. registry. We also estimate that it would take about 1 work-hour per product to comply with the basic requirements of this proposed AD. The average labor rate is $80 per work-hour. Based on these figures, we estimate the cost of the proposed AD on U.S. operators to be $55,120, or $80 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-15414 (73 FR 13100, March 12, 2008) and adding the following new AD:

Bombardier, Inc. (Formerly Canadair): Docket No. FAA-2008-0643; Directorate Identifier 2008-NM-094-AD.

Comments Due Date

(a) We must receive comments by July 21, 2008.

Affected ADs

(b) The proposed AD supersedes AD 2008-06-02, Amendment 39-15414.

Applicability

(c) This AD applies to all Bombardier Model CL-600-2B19 (Regional Jet Series 100 & 440) airplanes, certificated in any category, all serial numbers.

Note 1: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (h)(1) of this AD. The request should include a description of changes to the required inspections that will ensure the continued operational safety of the airplane.

Subject

(d) Air Transport Association (ATA) of America Code 28: Fuel.

Reason

(e) The mandatory continuing airworthiness information (MCAI) states:

Bombardier Aerospace has completed a system safety review of the aircraft fuel system against fuel tank standards introduced in Chapter 525 of the Airworthiness Manual through Notice of Proposed Amendment (NPA) 2002-043. The identified non-compliances were then assessed using Transport Canada Policy Letter No. 525-001, to determine if mandatory corrective action is required.

The assessment showed that supplemental maintenance tasks [for certain bonding jumpers, wiring harnesses, and hydraulic systems, among other items] are required to prevent potential ignition sources inside the fuel system, which could result in a fuel tank explosion. Revision has been made to Canadair Regional Jet Model CL-600-2B19 Maintenance Requirements Manual, CSP A-053, Part 2, Appendix D, “Fuel System Limitations” to introduce the required maintenance tasks.

The corrective action is revising the Airworthiness Limitations Section (ALS) of the Instructions for Continued Airworthiness to incorporate new limitations for fuel tank systems.

Restatement of Certain Requirements of AD 2008-06-02

(f) Unless already done, do the following actions.

(1) Within 60 days after April 16, 2008 (the effective date of AD 2008-06-02), revise the Airworthiness Limitations Section (ALS) of the Instructions for Continued Airworthiness to incorporate the inspection and maintenance requirements, as applicable, in Canadair Regional Jet Model CL-600-2B19 Airworthiness Requirements in the Maintenance Requirements Manual, CSP A-053, Part 2, Appendix D, “Fuel System Limitations,” Revision 7, dated May 10, 2007 (“the MRM”), task numbers 28-11-00-601, 28-11-00-602, 28-11-00-603, 28-11-00-604, 29-33-01-601, and 29-33-01-602. Except as required by paragraph (g)(1) of this AD, for those task numbers, the initial compliance times start at the applicable time specified in paragraphs (f)(2), (f)(3), and (f)(4) of this AD, and the repetitive inspections must be accomplished thereafter at the interval specified in the MRM, except as provided by paragraphs (f)(5) and (h)(1) of this AD. Accomplishing the revision in accordance with a later revision of the MRM is an acceptable method of compliance if the revision is approved by the Manager, New York Aircraft Certification Office (ACO), FAA), or Transport Canada Civil Aviation (TCCA) (or its delegated agent).

(2) For airplanes having more than 15,000 flight hours as of April 16, 2008, the initial compliance time for Tasks 28-11-00-601, 28-11-00-602, 28-11-00-603, and 28-11-00-604 is within 5,000 flight hours after April 16, 2008. Thereafter, these tasks must be accomplished within the repetitive interval specified in Canadair Regional Jet Model CL-600-2B19, Airworthiness Requirements in the Maintenance Requirements Manual, CSP A-053, Part 2, Appendix D, “Fuel System Limitations,” Revision 7, dated May 10, 2007.

(3) For Task 29-33-01-601, the initial compliance time is within 5,000 flight hours after April 16, 2008. Thereafter, task 29-33-01-601 must be accomplished within the repetitive interval specified in Canadair Regional Jet Model CL-600-2B19, Airworthiness Requirements in the Maintenance Requirements Manual, CSP A-053, Part 2, Appendix D, “Fuel System Limitations,” Revision 7, dated May 10, 2007.

(4) For airplanes having more than 27,500 flight hours as of April 16, 2008, the initial compliance time for Task 29-33-01-602 is within 2,500 flight hours after April 16, 2008. Thereafter, this task must be accomplished within the repetitive interval specified in Canadair Regional Jet Model CL-600-2B19, Airworthiness Requirements in the Maintenance Requirements Manual, CSP A-053, Part 2, Appendix D, “Fuel System Limitations,” Revision 7, dated May 10, 2007.

(5) After accomplishing the actions specified in paragraphs (f)(1), (f)(2), (f)(3), and (f)(4) of this AD, no alternative inspections/limitation tasks or inspection/limitation task intervals may be used unless the inspections/limitation tasks or inspection/limitation task intervals are part of a later approved revision of Canadair Regional Jet Model CL-600-2B19, Airworthiness Requirements in the Maintenance Requirements Manual, CSP A-053, Part 2, Appendix D, “Fuel System Limitations,” Revision 7, dated May 10, 2007, that is approved by the Manager, New York ACO, FAA, or TCCA (or its delegated agent); or unless the inspection/limitation task or inspection/limitation task interval is approved as an alternative method of compliance (AMOC) in accordance with the procedures specified in paragraph (h)(1) of this AD.

New Requirements of This AD: Actions and Compliance

(g) Unless already done, do the following actions.

(1) At the times specified in paragraphs (g)(1)(i) and (g)(1)(ii) of this AD, as applicable, do the initial inspection for Tasks 28-11-00-601, 28-11-00-602, 28-11-00-603, 28-11-00-604, and 29-33-01-602, as applicable, in the MRM, and thereafter repeat the inspection at the applicable interval specified in the MRM, except as provided by (g)(2) of this AD.

(i) For airplanes not identified in paragraph (f)(2) of this AD, the initial compliance time for Tasks 28-11-00-601, 28-11-00-602, 28-11-00-603, and 28-11-00-604 is before the accumulation of 20,000 total flight hours, or within 5,000 flight hours after the effective date of this AD, whichever occurs later.

(ii) For airplanes not identified in paragraph (f)(4) of this AD, the initial compliance time for Task 29-33-01-602 is before the accumulation of 30,000 total flight hours, or within 2,500 flight hours after the effective date of this AD, whichever occurs later.

(2) After accomplishing the actions specified in paragraphs (g)(1)of this AD, no alternative inspections/limitation tasks or inspection/limitation task intervals may be used unless the inspections/limitation tasks or inspection/limitation task intervals are part of a later approved revision of Canadair Regional Jet Model CL-600-2B19, Airworthiness Requirements in the Maintenance Requirements Manual, CSP A-053, Part 2, Appendix D, “Fuel System Limitations,” Revision 7, dated May 10, 2007, that is approved by the Manager, New York ACO, FAA, or TCCA (or its delegated agent); or unless the inspection/limitation task or inspection/limitation task interval is approved as an alternative method of compliance (AMOC) in accordance with the procedures specified in paragraph (h)(1) of this AD.

FAA AD Differences

Note 2: This AD differs from the MCAI and/or service information as follows: No differences.

Other FAA AD Provisions

(h) The following provisions also apply to this AD:

(1) Alternative Methods of Compliance (AMOCs): The Manager, New York Aircraft Certification Office (ACO), FAA, has the authority to approve AMOCs for this AD, if requested using the procedures found in 14 CFR 39.19. Send information to ATTN: Rocco Viselli, Aerospace Engineer, Airframe and Propulsion Branch, ANE-171, FAA, New York Aircraft Certification Office, 1600 Stewart Avenue, Suite 410, Westbury, New York 11590; telephone (516) 228-7331; fax (516) 794-5531. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(i) Refer to MCAI Canadian Airworthiness Directive CF-2007-29, dated November 22, 2007, and Canadair Regional Jet Model CL-600-2B19, Airworthiness Requirements in the Maintenance Requirements Manual, CSP A-053, Part 2, Appendix D, “Fuel System Limitations,” Revision 7, dated May 10, 2007; for related information.

Issued in Renton, Washington, on June 10, 2008.
Ali Bahrami,
Manager, Transport Airplane Directorate, Aircraft Certification Service.

[FR Doc. E8-13922 Filed 6-19-08; 8:45 am]

BILLING CODE 4910-13-P